DEPARTMENT OF LABOR

Employment and Training Administration

[TA-W-52,698]

Rohm and Haas Company, Philadelphia, Pennsylvania; Notice of Termination of Investigation

Pursuant to section 221 of the Trade Act of 1974, as amended, an investigation was initiated on August 28, 2003, in response to a worker petition filed on behalf of workers at Rohm and Haas Company, Philadelphia, Pennsylvania.

The petitioners have requested that the petition be withdrawn. Consequently, the investigation has been terminated.

Signed at Washington, DC, this 23rd day of September, 2003.
Richard Church,
Certifying Officer, Division of Trade Adjustment Assistance.

[FR Doc. 03-27448 Filed 10-30-03; 8:45 am]

BILLING CODE 4510-30-P